DEPARTMENT OF STATE

[Public Notice 4158]

United States International Telecommunication Advisory Committee; Preparations for Various Telecommunication Standardization Meetings: Notice of Meetings

The Department of State announces meetings of the U.S. International Telecommunication Advisory Committee (ITAC). The purpose of the Committee is to advise the Department on policy, technical and operational issues with respect to international telecommunications standardization bodies such as the International Telecommunication Union.

The ITAC will meet to debrief the ITU Plenipotentiary Meeting recently completed in Marrakech, Morocco on November 20, 2002 from 9:30-noon at the Department of State in a room to be announced.

Members of the public will be admitted to the extent that seating is available, and may join in the discussions, subject to the instructions of the Chair. Entrance to the Department of State is controlled; people intending to attend a meeting at the Department of State should send their clearance data by fax to (202) 647-7407 or e-mail to worsleydm@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at (202) 647-2592 or e-mail to worsleydm@state.gov.

Dated: October 25, 2002.
Marian Gordon,
Director, Telecommunication Development, Department of State.

[FR Doc. 02-28218 Filed 11-5-02; 8:45 am]

BILLING CODE 4710-45-P